DEPARTMENT OF ENERGY

Agency Information Collection Extension

AGENCY: U.S. Department of Energy.

ACTION: Notice of request for comments.

SUMMARY: The Department of Energy (DOE) invites public comment on a proposed collection of information that DOE is developing for submission to the Office of Management and Budget (OMB) pursuant to the Paperwork Reduction Act of 1995.

DATES: Comments regarding this proposed information collection must be received on or before October 14, 2025. If you anticipate any difficulty in submitting comments within that period, contact the person listed in the FOR FURTHER INFORMATION CONTACT section as soon as possible.

ADDRESSES: Written comments may be sent to Bonneville Power Administration, Attn: Stephanie Noell, Privacy Program, CGI-7, PO Box 3621, Portland, OR 97208-3621, or by email at privacy@bpa.gov.

FOR FURTHER INFORMATION CONTACT: Requests for additional information or copies of the information collection instrument and instructions should be directed to Attn: Stephanie Noell, Privacy Program, by email at privacy@bpa.gov, or by phone at (503) 230-3881.

SUPPLEMENTARY INFORMATION: Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: 1910-5196;

(2) Information Collection Request Title: Aircraft Services;

(3) Type of Request: Extension;

(4) Purpose: This information collection is associated with BPA's management and oversight of personnel flying on BPA planes and helicopter. Employees, non-employees, contractors, and the general public complete the following form: BPA F 4450.01e Flight Request and contractors complete the following form: BPA F 4450.04e Contract Worker—Authorization for Travel on BPA Aircraft;

(5) Annual Estimated Number of Respondents: 1,000;

(6) Annual Estimated Number of Total Responses: 1,000;

(7) Annual Estimated Number of Burden Hours: 100;

(8) Annual Estimated Reporting and Recordkeeping Cost Burden: $0.

Statutory Authority: FAA-H-80831A—Aircraft Weight & Balance Regulation, 16 U.S.C. 832 et seq., 16 U.S.C. 838 et seq., 16 U.S.C. 839 et seq., and 41 CFR 300-304.

Signing Authority

This document of the Department of Energy was signed on August 12, 2025, by Candice Palen, Information Collection Clearance Manager, Bonneville Power Administration, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 12, 2025.
Treena V. Garrett,
Federal Register Liaison Officer, U.S. Department of Energy.

[FR Doc. 2025-15496 Filed 8-13-25; 8:45 am]

BILLING CODE 6450-01-P